DEPARTMENT OF HOMELAND SECURITY

Coast Guard

33 CFR Part 117

[Docket No. USCG-2016-0187]

Drawbridge Operation Regulation; Newark Bay, Jersey City, NJ

AGENCY: Coast Guard, DHS.

ACTION: Notice of deviation from drawbridge regulation.

SUMMARY: The Coast Guard has issued a temporary deviation from the operating schedule that governs the Lehigh Valley Drawbridge across the Newark Bay, mile 4.3, at Jersey City, New Jersey. This deviation is necessary to allow the bridge owner to replace rails and ties at the bridge. This deviation allows the bridge to remain closed for 26 hours for two days.

DATES: This deviation is effective from 7 a.m. on June 5, 2016 to 7 p.m. on June 13, 2016.

ADDRESSES: The docket for this deviation, [USCG-2016-0187] is available at http://www.regulations.gov. Type the docket number in the “SEARCH” box and click “SEARCH”. Click on Open Docket Folder on the line associated with this deviation.

FOR FURTHER INFORMATION CONTACT: If you have questions on this temporary deviation, call or email Joe M. Arca, Project Officer, First Coast Guard District, telephone (212) 514-4336, email joe.m.arca@uscg.mil.

SUPPLEMENTARY INFORMATION: The Lehigh Valley Drawbridge across Newark Bay, mile 4.3, at Jersey City, New Jersey, has a vertical clearance in the closed position of 35 feet at mean high water and 39 feet at mean low water. The existing bridge operating regulations are found at 33 CFR 117.5.

The waterway is transited by seasonal recreational vessels and commercial vessels of various sizes.

The bridge owner, Consolidated Rail Corporation (CONRAIL), requested a temporary deviation from the normal operating schedule to facilitate replacement of the rails and ties at the bridge.

Under this temporary deviation, the Lehigh Valley Drawbridge may remain in the closed position for 26 hours, from 7 a.m. to 9 p.m. on June 5, 2016 and from 7 a.m. to 7 p.m. on June 6, 2016, and a rain date from 7 a.m. to 9 p.m. on June 12, 2016 and from 7 a.m. to 7 p.m. on June 13, 2016.

Vessels able to pass under the bridge in the closed position may do so at any time. The bridge will not be able to open for emergencies and there is no immediate alternate route for vessels to pass.

The Coast Guard will inform the users of the waterways through our Local Notice and Broadcast to Mariners of the change in operating schedule for the bridge so that vessel operations can arrange their transits to minimize any impact caused by the temporary deviation.

In accordance with 33 CFR 117.35(e), the drawbridge must return to its regular operating schedule immediately at the end of the effective period of this temporary deviation. This deviation from the operating regulations is authorized under 33 CFR 117.35.

Dated: April 18, 2016.
C.J. Bisignano,
Supervisory Bridge Management Specialist, First Coast Guard District.

[FR Doc. 2016-09310 Filed 4-21-16; 8:45 am]

BILLING CODE 9110-04-P